Title 3—

The President

Proclamation 7625 of November 8, 2002

World Freedom Day, 2002

By the President of the United States of America

A Proclamation

On World Freedom Day, the United States joins with the nations of the world that are dedicated to liberty and democratic values in commemorating the fall of the Berlin Wall, which occurred on November 9, 1989. As we remember this historic event, we renew our commitment to advancing democracy, peace, and freedom for all throughout the world.

The fall of the Berlin Wall ushered in a new era of liberty and self-determination in Central and Eastern Europe. In the years that followed this remarkable event, the citizens of formerly Communist states participated in open elections, secured their common rights to free speech, and claimed other fundamental freedoms. This triumph for democracy demonstrated that tyranny is temporary, and that liberty is the universal and guiding goal for all mankind.

Since the fall of the Berlin Wall, we have made great progress in encouraging free and open societies on every continent. But challenges remain. Today, too many people still suffer at the hands of dictators who deny liberty and support activities and organizations that aim to disrupt the freedom of other countries.

On World Freedom Day, we celebrate freedom and its capacity to improve lives around the world. We also honor the people of the former Soviet bloc countries who fought against tyranny, and we recognize those who continue the struggle for freedom worldwide. As we face new challenges and welcome new opportunities, we remain committed to protecting our freedom and helping others realize their dreams of liberty.

NOW, THEREFORE, I, GEORGE W. BUSH, President of the United States of America, by virtue of the authority vested in me by the Constitution and laws of the United States, do hereby proclaim November 9, 2002, as World Freedom Day. I call upon the people of the United States to observe this day with appropriate ceremonies and activities and to reaffirm their dedication to freedom and democracy for all.

IN WITNESS WHEREOF, I have hereunto set my hand this eighth day of November, in the year of our Lord two thousand two, and of the Independence of the United States of America the two hundred and twenty-seventh.

B

[FR Doc. 02-29124

Filed 11-13-02; 8:45 am]

Billing code 3195-01-P